NATIONAL ARCHIVES AND RECORDS ADMINISTRATION

[NARA-2023-001]

National Industrial Security Program Policy Advisory Committee (NISPPAC); Meeting

AGENCY: Information Security Oversight Office (ISOO), National Archives and Records Administration (NARA).

ACTION: Notice of Federal Advisory Committee meeting.

SUMMARY: We are announcing an upcoming National Industrial Security Program Policy Advisory Committee (NISPPAC) meeting in accordance with the Federal Advisory Committee Act and implementing regulations.

DATES: The meeting will be on November 2, 2022, from 10 a.m-1 p.m EST.

Location: This meeting will be a virtual meeting. See supplementary procedures below.

FOR FURTHER INFORMATION CONTACT: Heather Harris Pagán, ISOO Program Analyst, by telephone at 202.357.5351 or by email at ISOO@nara.gov. Contact ISOO at ISOO@nara.gov and the NISPPAC at NISPPAC@nara.gov.

SUPPLEMENTARY INFORMATION: This virtual meeting is open to the public in accordance with the Federal Advisory Committee Act (5 U.S.C. app 2) and implementing regulations at 41 CFR 102-3. The Committee will discuss National Industrial Security Program policy matters.

Procedures: Members of the public must register in advance through the Event Services link https://ems8.intellor.com?do=register&t=1&p=844912 if you wish to attend. NISPPAC members, ISOO employees, and speakers should send an email to NISPPAC@nara.gov for the appropriate registration information instead of registering with the above link.

Tasha Ford,
Committee Management Officer.

[FR Doc. 2022-22392 Filed 10-13-22; 8:45 am]

BILLING CODE 7515-01-P